DEPARTMENT OF ENERGY

Federal Energy Regulatory Commission

[Docket No. RP04-39-001]

Columbia Gulf Transmission Company; Notice of Compliance Filing

December 18, 2003.

Take notice that on December 15, 2003, Columbia Gulf Transmission Company (Columbia Gulf) tendered for filing as part of its FERC Gas Tariff, Second Revised Volume No. 1, the following tariff sheets, bearing a proposed effective date of November 30, 2003:

Second Revised Sixth Revised Sheet No. 39

Second Revised Sixth Revised Sheet No. 46

Original Sheet No. 46.01

Ninth Revised Sheet No. 154

Columbia Gulf states that on October 31, 2003, it made a filing with the Commission in Docket No. RP04-39 to allow shippers the ability to combine multiple service agreements under the same rate schedule into a single service agreement and to separate previously combined service agreements as necessary. Columbia Gulf states that the instant filing is in compliance with the Commission's Order issued on November 28, 2003, effective November 30, 2003, subject to certain modifications.

Columbia Gulf states that copies of its filing have been mailed to all firm customers, interruptible customers and affected state commissions.

Any person desiring to protest said filing should file a protest with the Federal Energy Regulatory Commission, 888 First Street NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00646 Filed 12-24-03; 8:45 am]

BILLING CODE 6717-01-P